CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed national survey of K-12 schools on policies and supports for community service and service-learning. The survey will be used in a study of the prevalence of community service and service-learning in the nation's K-12 public schools.

Copies of the information collection requests can be obtained by contacting the office listed in the addresses section of this notice.

DATES: Written comments must be submitted to the individual and office listed in the ADDRESSES section by August 21, 2007.

ADDRESSES: You may submit comments, identified by the title of the information collection activity, by any of the following methods:

(1) By mail sent to: Corporation for National and Community Service, Department of Research and Policy Development; Attention Kimberly Spring, Policy Analyst, 10th Floor; 1201 New York Avenue, NW., Washington, DC 20525.

(2) By hand delivery or by courier to the Corporation's mailroom at Room 8100 at the mail address given in paragraph (1) above, between 9 a.m. and 4 p.m. Monday through Friday, except Federal holidays.

(3) By fax to: (202) 606-3464, Attention Kimberly Spring, Policy Analyst.

(4) Electronically through the Corporation's e-mail address system: kspring@cns.gov.

FOR FURTHER INFORMATION CONTACT: Kimberly Spring, (202) 606-6629, or by e-mail at kspring@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Corporation is a federal government agency that encourages Americans of all ages and backgrounds to engage in community-based service to meet the nation's educational, public safety, environmental, homeland security, and other human needs. Through its program, Learn and Serve America, the Corporation provides resources to K-12 schools, higher education institutions, and community-based organizations for the promotion and sustainability of service-learning activities. Since Learn and Serve America was established in 1990, it has been the catalyst for a wide expansion of community service and service-learning in America's schools, colleges and youth service organizations. In 1984, approximately nine percent of schools in the United States offered service-learning opportunities. By 1999, about one-third of all K-12 public schools in the United States offered service-learning for their students. A new study of the prevalence of service-learning in K-12 schools will allow Learn and Serve America to continue to assess the extent to which its efforts and those of other organizations that promote service-learning have led to the growth of service-learning. Information collected through this survey will be used by the Corporation to track progress on key Strategic Plan and Learn and Serve performance measures.

Current Action

The Corporation seeks OMB approval for a new information collection.

Type of Review: New.

Agency: Corporation for National and Community Service.

Title: National Student Service-Learning and Community Service Survey.

OMB Number: 3045-New.

Agency Number: None.

Affected Public: Elementary, middle, and high school administrators.

Total Respondents: 2000.

Frequency: One time.

Average Time Per Response: Average of 20 minutes.

Estimated Total Burden Hours: 660 hours.

Total Burden Cost (capital/startup): None.

Total Burden Cost (operating/maintenance): None.

Comments submitted in response to this notice will be summarized and/or included in the request for Office of Management and Budget approval of the information collection request; they will also become a matter of public record.

Dated: June 15, 2007.
Kevin Cramer,
Deputy Director, Department of Research and Policy Development.

[FR Doc. E7-12055 Filed 6-21-07; 8:45 am]

BILLING CODE 6050-$$-P